DEPARTMENT OF DEFENSE

Department of the Army

Availability for Non-Exclusive, Exclusive, or Partially Exclusive Licensing of U.S. Patent Concerning a Liquid Immersed Pumped Solid State Laser

AGENCY: Department of the Army, DoD.

ACTION: Notice.

SUMMARY: In accordance with 37 CFR 404.6 and 404.7, announcement is made of the availability for licensing of the invention set forth in U.S. Patent No. 6,760,351 entitled “Liquid Immersed Pumped Solid State Laser,” issues on July 6, 2004. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil, (256) 955-3213 or Ms. Susan D. McRae, Office of Research and Technology Applications, e-mail: susan.mcrae@smdc.army.mil; (256) 955-1501.

SUPPLEMENTARY INFORMATION: The invention pertains to temperature control of solid state lasers. A liquid immersed pumped solid state lasing system includes a light source and a lasing element spaced from the light source. The light source and the lasing element are mounted in an insulated container. The top of the container is open for inputting a clear cryogenic cooling liquid into the container to totally immerse the light source and the lasing element in the liquid. Heat transfer occurs by conduction from the light source and the lasing element to the liquid, thereby cooling the light source and the lasing element to cryogenic temperatures. The container has a window for the output of laser light. A plurality of electrical leads that are superconducting at cryogenic temperatures are attached to the light source. When the leads are connected to a power supply outside the container, the light source directs light on the lasing element so that the lasing element is excited and transmits a light output through the window.

Brenda S. Bowen,
Army Federal Register Liaison Officer.

[FR Doc. 07-4275 Filed 8-30-07; 8:45 am]

BILLING CODE 3710-08-M